DEPARTMENT OF JUSTICE

Notice of Lodging of Consent Decree Under the Comprehensive Environmental Response, Compensation, and Liability Act

Notice is hereby given that on March 28, 2002, a proposed Consent Decree (“Decree”) in United States v. Daniel E. Caulk and RAMP Industries, Inc., Civil Action No. 02-D-0625, was lodged with the United States District Court for the District of Colorado. The action was filed pursuant to Section 107(a)(2) of the Comprehensive Environmental Response, Compensation, and Liability Act (“CERCLA”), 42 U.S.C. 9607(a)(2), for costs EPA incurred in responding to the release or threatened release of hazardous substances at or from the RAMP Industries Site in Denver, Colorado. Under the terms of the Decree the settling defendants will pay the United States $95,000 over four years, with interest on the outstanding principal balance accruing at the statutory rate.

The Department of Justice will receive comments relating to the Decree for a period of thirty (30) days from the date of this publication. Comments should be addressed to the Assistant Attorney General, Environment and Natural Resources Division, Department of Justice, and sent to the Denver Field Office, 999 18th Street, Suite 945NT, Denver, CO 80202, and should refer to United States v. Daniel E. Caulk and RAMP Industries, Inc., D.J. Ref. 90-11-2-1290/7.

The Decree may be examined at the offices of the EPA Library, EPA Region VIII, located at 999 18th Street, First Floor, Denver, Colorado 80202. A copy of the Decree may also be obtained by mail from the Consent Decree Library, P.O. Box 7611, U.S. Department of Justice, Washington, DC 20044-7611 or by faxing a request to Tonia Fleetwood, fax no. (202) 514-0097, phone confirmation number (202) 514-1547. In requesting a copy, please enclose a check in the amount of $5.00 (25 cents per page reproduction cost) payable to the U.S. Treasury.

Robert Brook,
Assistant Section Chief, Environmental Enforcement Section, Environment and Natural Resources Division.

[FR Doc. 02-8742 Filed 4-10-02; 8:45 am]

BILLING CODE 4410-15-M